DEPARTMENT OF ENERGY

Federal Energy Regulatory Commission

[Docket No. AD04-4-000]

Panel Member List for Hydropower Licensing Study Dispute Resolution; Notice Requesting Applications for Panel Member List for Hydropower Licensing Study Dispute Resolution

March 12, 2004.

This notice requests applications from those interested in being listed as potential panel members to assist in the Federal Energy Regulatory Commission's (Commission) study dispute resolution process for the integrated licensing process for hydropower projects.

Background

The Commission's final rule revising its regulations pertaining to hydroelectric licensing under the Federal Power Act encourages informal resolution of study disagreements. In cases where this is not successful, a formal study dispute resolution process is available for State and Federal agencies or Indian tribes with mandatory conditioning authority.¹

¹ See § 5.14 of the final rule, which may be viewed on the Commission's Web site at http://www.ferc.gov/home/Order2002.pdf, and see excerpted attachment describing the formal dispute resolution process.

The final rule provides that the disputed study must be submitted to a dispute resolution panel consisting of a person from Commission staff, a person from the agency or Indian tribe referring the dispute to the Commission, and a third person selected by the other two panelists from a pre-established list of persons with expertise in the disputed resource area.² The third panel member (TPM) will serve without compensation, except for certain allowable travel expenses to be borne by the Commission (31 CFR 301).

² These persons must not be otherwise involved with the proceeding.

The role of the panel members is to make a finding, with respect to each disputed study request, on the extent to which each study criteria set forth in the regulations is or is not met,³ and why. The panel will then make a recommendation to the Director of the Office of Energy Projects based on the panel's findings.

³ See § 5.9 of the final rule.

TPMs can only be selected from a list of qualified persons (TPM List) that is developed and maintained by the Commission. Each qualified panel member will be listed by area(s) and sub-area(s) of technical expertise, for example Fisheries Resources—Instream flow. The TPM list will be available to the public on the Commission's web site. All individuals submitting their applications to the Commission for consideration must meet the Commission's qualifications.

Application Contents

The applicant should describe in detail his/her qualifications in items 1-4 listed below.

1. Technical expertise, including education and experience in each resource area and sub-area for which the applicant wishes to be considered:

• Aquatic resources:

• Water quality;

• Instream flows;

• Fish passage;

• Macroinvertebrates;

• Threatened and endangered species;

• General.

• Terrestrial resources:

• Wildlife biology;

• Botany;

• Wetlands ecology;

• Threatened and endangered species;

• General.

• Cultural resources.

• Recreational resources:

• Whitewater boating;

• General.

• Land use:

• Shoreline management;

• Visual/aesthetics;

• General.

• Geology:

• Geomorphology;

• Erosion;

• General.

• Socio-economics.

• Engineering:

• Civil engineering;

• Hydraulic engineering;

• Electrical engineering;

• General.

2. Knowledge of the effects of construction and operation of hydroelectric projects.

3. Working knowledge of laws relevant to expertise, such as: the Fish and Wildlife Coordination Act, the Endangered Species Act, the Clean Water Act, the Coastal Zone Management Act, the Wild and Scenic Rivers Act, the Federal Power Act or other applicable laws.

4. Ability to promote constructive communication about a disputed study.

How To Submit Applications

Applicants must submit their applications along with the names and contact information of three references. Applicants will be individually notified of the Commission's decision.

DATES: The application period closes on May 28, 2004. Additional future application periods may be announced by the Commission.

ADDRESSES: Applications must be filed electronically via the Internet. See the instructions on the Commission's Web site (http://www.ferc.gov) under the “e-Filing” link. Applications should reference “DOCKET No. AD04-4-000, NOTICE REQUESTING APPLICATIONS FOR PANEL MEMBER LIST FOR HYDROPOWER LICENSING STUDY DISPUTE RESOLUTION.”

Other Information: Requests submitted must be in Word, Times New Roman 13 pt. font, and must not be longer than 10 pages in length. Complete individual contact information must be provided, as formal interviews may be conducted either face to face or via teleconference as necessary prior to establishing the TPM List.

FOR FURTHER INFORMATION CONTACT: Lon Crow, Federal Energy Regulatory Commission, Office of Energy Projects, 888 First Street, NE., Washington, DC 20426; (202) 502-8749; lon.crow@ferc.gov.

Linda Mitry,
Acting Secretary.

[FR Doc. E4-620 Filed 3-17-04; 8:45 am]

BILLING CODE 6717-01-P